DEPARTMENT OF COMMERCE

Bureau of Industry and Security

15 CFR Part 744

[Docket No. 200831-0029]

RIN 0694-AI10

Revisions to the Unverified List (UVL)

AGENCY: Bureau of Industry and Security, Commerce.

ACTION: Final rule.

SUMMARY: The Bureau of Industry and Security (BIS) is amending the Export Administration Regulations (EAR) by removing forty (40) persons from the Unverified List (“UVL”) and adding twenty-six (26) persons to the UVL. The 40 persons are removed from the UVL on the basis that BIS was able to verify their bona fides (i.e., legitimacy and reliability relating to the end use and end user of items subject to the EAR) on the basis of a successful end-use check or because the companies are no longer registered to do business in the country of listing and are no longer involved in U.S. exports. The 26 persons are being added to the UVL on the basis that BIS could not verify their bona fides because an end-use check could not be completed satisfactorily for reasons outside the U.S. Government's control.

DATES: This rule is effective October 9, 2020.

FOR FURTHER INFORMATION CONTACT: Kevin Kurland, Director, Office of Enforcement Analysis, Bureau of Industry and Security, Department of Commerce, Phone: (202) 482-4255 or by email at UVLRequest@bis.doc.gov.

SUPPLEMENTARY INFORMATION:

Background

The Unverified List (UVL), found in Supplement No. 6 to part 744 of the Export Administration Regulations (15 CFR parts 730 through 774) (EAR), contains the names and addresses of foreign persons who are or have been parties to a transaction, as such parties are described in § 748.5 of the EAR, involving the export, reexport, or transfer (in-country) of items subject to the EAR, and whose bona fides the Bureau of Industry and Security (BIS) has been unable to verify through an end-use check. BIS may add persons to the UVL when BIS or federal officials acting on BIS's behalf have been unable to verify a foreign person's bona fides because an end-use check, such as a pre-license check (PLC) or a post-shipment verification (PSV), cannot be completed satisfactorily for such purposes for reasons outside the U.S. Government's control.

There are a number of reasons why end-use checks cannot be completed. These include but are not limited to reasons unrelated to the cooperation of the foreign party subject to the end-use check. For example, BIS sometimes initiates end-use checks and cannot find a foreign party at the address indicated on export documents and cannot locate the party by telephone or email. Additionally, BIS sometimes is unable to conduct end-use checks when host government agencies do not respond to requests to conduct end-use checks, prevent the scheduling of such checks, or refuse to schedule them in a timely manner. Under these circumstances, although BIS has an interest in informing the public of its inability to verify the foreign party's bona fides, there may not be sufficient information to add the foreign person at issue to the Entity List (Supplement No. 4 to part 744 of the EAR) under § 744.11 of the EAR (Criteria for revising the Entity List). In such circumstances, BIS may add the foreign person to the UVL.

Furthermore, BIS sometimes conducts end-use checks but cannot verify the bona fides of a foreign party. For example, BIS may be unable to verify bona fides if, during the conduct of an end-use check, a recipient of items subject to the EAR is unable to produce the items that are the subject of the end-use check for visual inspection or provide sufficient documentation or other evidence to confirm the disposition of the items. The inability of foreign persons subject to end-use checks to demonstrate their bona fides raises concerns about the suitability of such persons as participants in future exports, reexports, or transfers (in-country) of items subject to the EAR and indicates a risk that such items may be diverted to prohibited end uses and/or end users. However, in such circumstances, BIS may not have sufficient information to establish that such persons are involved in activities described in parts 744 or 746 of the EAR, therefore preventing the placement of the persons on the Entity List. In such circumstances, the foreign persons may be added to the Unverified List.

As provided in § 740.2(a)(17) of the EAR, the use of license exceptions for exports, reexports, and transfers (in-country) involving a party or parties to the transaction who are listed on the UVL is suspended. Additionally, under § 744.15(b) of the EAR, there is a requirement for exporters, reexporters, and transferors to obtain (and keep a record of) a UVL statement from a party or parties to the transaction who are listed on the UVL before proceeding with exports, reexports, and transfers (in-country) to such persons, when the exports, reexports and transfers (in-country) are not subject to a license requirement.

Requests for removal of a UVL entry must be made in accordance with § 744.15(d) of the EAR. Decisions regarding the removal or modification of UVL listings will be made by the Deputy Assistant Secretary for Export Enforcement, based on a demonstration by the listed person of its bona fides.

Changes to the EAR

Supplement No. 6 to Part 744 (“the Unverified List” or “UVL”)

This rule adds 26 persons to the UVL by amending Supplement No. 6 to Part 744 of the EAR to include their names and addresses. BIS adds these persons in accordance with the criteria for revising the UVL set forth in § 744.15(c) of the EAR, on the basis that BIS could not verify their bona fides because an end-use check could not be completed satisfactorily for reasons outside the U.S. Government's control. The new entries consist of three persons located in Armenia, two in Finland, three in Germany, five in Hong Kong, three in Pakistan, two in Turkey, six in the United Arab Emirates (UAE), and one person located in each of the following countries: China and Mexico. Each listing is grouped within the UVL by country with each party's name(s) listed in alphabetical order under the country and each entry includes available alias(es) and address(es), as well as the Federal Register citation and the date the person was added to the UVL. The UVL is included in the Consolidated Screening List, available at www.export.gov.

Additionally, this rule removes 40 persons from the UVL. BIS is removing these persons pursuant to § 744.15(c)(2) of the EAR or based on a determination that the companies are no longer registered to do business in the listed country and are no longer involved in U.S. exports. This final rule implements the decision to remove the following 40 persons located in China, Hong Kong, Indonesia, and the UAE from the UVL:

China

• Aisin Nantong Technical Center, No 11 Chen Yang Road, Nantong Development Zone Nantong, China;

• Beijing Institute of Nanoenergy and Nanosystems, 30 Xue YuanLu HaiDianQu, Beijing, China 100083;

• Changchun Institute of Applied Chemistry, Chinese Academy of Sciences, 5625 Renmin Street, Changchun City, China 130022;

• Institute of Geology, Chinese Academy of Geological Sciences, No. 26, Baiwanzhuang Street, Beijing, 100037, China;

• Ningbo Zhongxian Optoelectronic Technology Co, Ltd., Floor 11 Technology Innovation Center, No. 1188 Binhai 2nd Road, Hangzhou Bay New District, Ningbo, Zheijiang, China 315336;

• Renmin University, No. 59 Zhongguancun Street, Haidian District, Beijing, China 100872;

• Shanghai Institute of Technical Physics, Chinese Academy of Sciences, 500 Yu Tian Road, Shanghai, China 200083;

• Shanghai SKEQI Automation Engineering Co., Bldg 8, No. 650 Guanghua Road, Songjiang District, Shanghai, China;

• Shi Jia Zhuang Suin Instruments, A-2 No. 99 Yuyuan Road, LuQuan District, Shijiazhuang, China 050000;

• Termei Torch & Tip Company, No. 9 Huanbao 3rd Road, Xinbei District, Changzhou, Jiangsu, China 213034;

• Tongji University, 1239 Siping Road, Shanghai, China 200092;

• Xi'an Caijing Opto-Electronics, Science & Technology Co., Ltd, No. 168, East Zhangba Road, Shaanxi Province, Xi'an City, China;

• Xi'an Jiaotong University, School of Electrical Engineering, No. 28 Xianning West Road, Xi'an, Shaanxi, China 710049;

• Xi'an Jiaotong University, No. 99 Yanxiang Road, Qujiang, Xi'an, China 71000;

• Xi'an Micromach Photon Manufacture Technology, No. 60 Western Road, New High Tech Park, Xi'an, China, 710000;

• Yunnan Observatories, Chinese Academy of Sciences (CAS), No. 396 Yangfangwang, Kunming, Yunnan, China 650216;

Hong Kong

• Advent International, Room 1303 Goldfield Tower, 53-59 Wuhu Street, Kung Hom, Kowloon, Hong Kong; and Flat F, 13/F, Block 1, Hong Sing Garden, Tsuen Kwan O, New Territories, Hong Kong;

• AST Technology Group (HK) Ltd., Flat 6, 20/F, Mega Trade Centre, 1-9 Mei Wan Street, Tsuen Wan, Hong Kong; and Unit 2209, 22/F, Wu Chung House, 213 Queen's Road East, Wan Chai, Hong Kong; and Unit 2103, 21/F, Sino Centre, 582-592 Nathan Road, Mong Kok, Kowloon, Hong Kong;

• CITI Hong Kong Ltd., Unit F, 7/F, Haribest Industry Building, 45-47 Au Pui Wan Street, Fo Tan, New Territories, Hong Kong;

• Foot Electronics Co. Ltd., Unit 2103, 21/F, Sino Centre, 582-592 Nathan Road, Mong Kok, Kowloon, Hong Kong; and Rm. 19C, Lockhart Centre, 301-307 Lockhart Road, Wan Chai, Hong Kong;

• Fuiyen Technology Ltd., 6/F, Block H, East Sun Industrial Centre, 16 Shing Yip Street, Kwun Tong, Kowloon, Hong Kong; and Room 1405, Lucky Centre, 165-171 Wan Chai Road, Wan Chai, Hong Kong;

• GA Industry Co. Ltd., Room 1103, Hang Seng Mong Kok Building, 677 Nathan Road, Kowloon, Hong Kong;

• Global Sourcing Electronics (HK) Ltd., Unit 4, 7/F, Bright Way Tower, No. 33 Mong Kok Road, Mong Kok, Kowloon, Hong Kong;

• GS Technology Ltd, a.k.a. GS Technology Group Ltd., Flat 6, 20/F, Mega Trade Centre, 1-9 Mei Wan Street, Tsuen Wan, New Territories, Hong Kong; and Unit D, 16/F, Cheuk Nang Plaza, 250 Hennessy Road, Wanchai, Hong Kong;

• Hi-Shine Technology (HK) Limited, Flat D12, 11/F, King Yip Factory Bldg, 59 King Yip Street, Kwun Tong, Kowloon, Hong Kong; and Room 603, 6/F, Hang Pont Commercial Building, 31 Tonking Street, Cheung Sha Wan, Kowloon, Hong Kong;

• Hong Kong U.Star Electronics Technology Co., Ltd., Room 28, 8/F, Shing Yip Industrial Building, 19-21 Shing Yip Street, Kwun Tong, Kowloon, Hong Kong; and Unit 5, 27/F, Richmong Commercial Building, 109 Argyle Street, Mong Kok, Kowloon, Hong Kong; and Room 704, 7/F, Bright Way Tower, 33 Mong Kok Road, Mong Kog, Kowloon, Hong Kong;

• Hua Fu Technology Co. Ltd., Rm 1209, 12/F, Workingbond Commercial Centre, 162 Prince Edward Road West, Mong Kok, Kowloon, Hong Kong;

• Microlink Communication Ltd., Room 806, 8/F, Kenbo Commercial Building, No. 335-339 Queen's Road West, Hong Kong;

• Milectronic Communication Ltd., Room 2912, Tower 2, Times Square, 1 Matheson Street, Causeway Bay, Hong Kong;

• Newplus Equipment Ltd., 12/F, Chinachem Johnston Plaza, 178-186 Johnston Road, Wan Chai, Hong Kong;

• People Tele-com Group, Flat A, 11/F, Adolfo Mansion, 114-116 Austin Road, Tsim Sha Tsui, Kowloon, Hong Kong;

• Runtop Circuits Technology Co., Room D9, 67/F, Block 2, Camel Paint Building, 62 Hoi Yuen Road, Kwun Tong, Hong Kong; and Flat 8-11, 16/F, New Trend Centre, 704 Prince Edward Road East, San Po Kong, Kowloon, Hong Kong;

• Team Kingdom Limited, Unit 526, 5/F, Advanced Technology Centre, 2 Choi Fat Street, Sheung Shui, New Territories, Hong Kong;

• Tianao Electronics Limited, Rm 9, 7/F, Block G, East Sun Industrial Ctr, 16 Shing Yip Street, Kwun Tong, Kowloon, Hong Kong;

• Top-Rank Int Trade (HK), Room 201-202, Westin Centre, 26 Hung To Road, Kwun Tong, Hong Kong; and Units A&B, 15/F, Neich Tower, 128 Gloucester Road, Wanchai, Hong Kong;

• Vessel Technology Limited, Rm 2309, 23/F, Ho King Comm Ctr, 2-16 Fayuen St., Mongkok, Kowloon, Hong Kong;

• Win Electronics Limited, G/F, 26 Pau Chung Street, Tokwawan, Kowloon, Hong Kong; and Rm 2309, 23/F, Ho King Comm Ctr, 2-16 Fayuen St., Mongkok, Kowloon, Hong Kong;

• Win-Semi International Ltd, Flat 6, 20/F, Mega Trade Centre, 1-9 Mei Wan Street, Tsuen Wan, Hong Kong; and Unit 503, 5/F, Silvercord Tower 2, 30 Canton Road, Tsimshatsui, Hong Kong;

Indonesia

• PetroChina International Jabung Ltd., Menara Kuningan, 25th Floor, JL. HR Rusuna, Said Block X-7, Kav. 5, Jakarta, Indonesia; and

United Arab Emirates

• Chepstow FZE, Office No. 12, Y Block, P.O. Box 121227, Sharjah Airport International Free Zone, Sharjah, UAE.

Savings Clause

Shipments removed from license exception eligibility or that are now subject to requirements in § 744.15 of the EAR as a result of this regulatory action; and on the dock for loading, on lighter, laden aboard an exporting carrier, or en route aboard a carrier to a port of export, on October 9, 2020, pursuant to actual orders, may proceed to that UVL-listed person under the previous license exception eligibility or without a license so long as the items have been exported from the United States, reexported or transferred (in-country) before November 9, 2020. Any such items not actually exported, reexported or transferred (in-country) before midnight on November 9, 2020 are subject to the requirements in § 744.15 of the EAR in accordance with this regulation.

Export Control Reform Act of 2018

On August 13, 2018, the President signed into law the John S. McCain National Defense Authorization Act for Fiscal Year 2019, which included the Export Control Reform Act of 2018 (ECRA) (codified, as amended, at 50 U.S.C. 4801 through 4852). ECRA provides the legal basis for BIS's principal authorities and serves as the authority under which BIS issues this rule.

Rulemaking Requirements

Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has not been designated a “significant regulatory action,” under section 3(f) of Executive Order 12866. This rule is not an Executive Order 13771 regulatory action because this rule is not significant under Executive Order 12866.

This rule does not contain policies with Federalism implications as that term is defined in Executive Order 13132.

Pursuant to Section 1762 of the Export Control Reform Act of 2018 (title XVII, subtitle B of Pub. L. 115-232), which was included in the John S. McCain National Defense Authorization Act for Fiscal Year 2019, this action is exempt from the Administrative Procedure Act (5 U.S.C. 553) requirements for notice of proposed rulemaking, opportunity for public participation, and delay in effective date. The analytical requirements of the Regulatory Flexibility Act (5 U.S.C. 601 et. seq.) are not applicable because no general notice of proposed rulemaking was required for this action. Accordingly, no regulatory flexibility analysis is required, and none has been prepared.

Notwithstanding any other provision of law, no person is required to respond to, nor is subject to a penalty for failure to comply with, a collection of information, subject to the requirements of the Paperwork Reduction Act of 1995 (44 U.S.C. 3501 et seq.) (PRA), unless that collection of information displays a currently valid Office of Management and Budget (OMB) Control Number. This regulation involves collections previously approved by OMB under the following control numbers: 0694-0088, 0694-0122, 0694-0134, and 0694-0137. Collection 0694-0088 includes, among other things, license applications, and carries a burden estimate of 42.5 minutes for a manual or electronic submission for a total burden estimate of 31,878 hours.

This rule will not change public burden in a collection of information approved by OMB under control number 0694-0088. The restoration of license exceptions for listed persons on the Unverified List will result in decreased license applications being submitted to BIS by exporters. The removal of license exceptions for listed persons on the Unverified List will potentially result in increased license applications being submitted to BIS by exporters. Total burden hours associated with the Paperwork Reduction Act and OMB control number 0694-0088 are expected not to change, as the restoration of some license exceptions and the restriction of other license exceptions will only affect transactions involving persons removed from or added to the Unverified List and not all export transactions. Because license exception eligibility is restored for these entities removed from the UVL, this rule increases public burden in a collection of information approved by OMB under control number 0694-0137 minimally, as this will only affect specifically listed individual persons. Additionally, because license exceptions are restricted for the entities added to the UVL, this rule decreases public burden in a collection of information approved by OMB under control number 0694-0137 minimally, as this will only affect specifically listed individual persons. The decreased burden under 0694-0088 is reciprocal to the increased burden under 0694-0137, and results in little or no change of burden to the public. This rule also decreases public burden in a collection of information under OMB control number 0694-0122, as a result of the exchange of UVL statements between private parties, and under OMB control number 0694-0134, as a result of appeals from persons listed on the UVL for removal of their listing. The total change in burden hours associated with both of these collections is expected to be minimal, as it involves a limited number of persons listed on the UVL.

List of Subjects in 15 CFR Part 744

Exports, Reporting and recordkeeping requirements, Terrorism.

Accordingly, part 744 of the Export Administration Regulations (15 CFR parts 730 through 774) is amended as follows:

PART 744—CONTROL POLICY: END-USER AND END-USE BASED

1. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2020, 85 FR 59641 (September 22, 2020); Notice of November 12, 2019, 84 FR 61817, 3 CFR, 2019 Comp., p. 479.

2. Supplement No. 6 to Part 744 is amended in the table by:

a. Adding three entries, in alphabetical order, for “Armenia”;

b. Adding one entry, in alphabetical order, for “China”;

c. Removing the entry for “Aisin Nantong Technical Center” under “China”;

d. Removing the entry for “Beijing Institute of Nanoenergy and Nanosystems” under “China”;

e. Removing the entry for “Changchun Institute of Applied Chemistry, Chinese Academy of Sciences” under “China”;

f. Removing the entry for “Institute of Geology, Chinese Academy of Geological Sciences” under “China”;

g. Removing the entry for “Ningbo Zhongxian Optoelectronic Technology Co, Ltd.” under “China”;

h. Removing the entry for “Renmin University” under “China”;

i. Removing the entry for “Shanghai Institute of Technical Physics” under “China”;

j. Removing the entry for “Shanghai SKEQI Automation Engineering Co.” under “China”;

k. Removing the entry for “Shi Jia Zhuang Suin Instruments” under “China”;

l. Removing the entry for “Termei Torch & Tip Company” under “China”;

m. Removing the entry for “Tongji University” under “China”;

n. Removing the entry for “Xi'an Caijing Opto-Electronics, Science & Technology Co., Ltd” under “China”;

o. Removing the entry for “Xi'an Micromach Photon Manufacture Technology” under “China”;

p. Removing the entry for “Xi'an Jiaotong University, School of Electrical Engineering” under “China”;

q. Removing the entry for “Xi'an Jiaotong University” under “China”;

r. Removing the entry for “Yunnan Observatories, Chinese Academy of Sciences (CAS)” under “China”;

s. Adding two entries, in alphabetical order, for “Finland”;

t. Adding three entries, in alphabetical order, for “Germany”;

u. Adding five entries, in alphabetical order, for “Hong Kong”.

v. Removing the entry for “Advent International Limited” under “Hong Kong”;

w. Removing the entry for “AST Technology Group (HK) Ltd.” under “Hong Kong”;

x. Removing the entry for “CITI Hong Kong Ltd.” under “Hong Kong”;

y. Removing the entry for “Foot Electronics Co. Ltd.” under “Hong Kong”;

z. Removing the entry for “Fuiyen Technology Ltd.” under “Hong Kong”;

aa. Removing the entry for “GA Industry Co. Ltd.” under “Hong Kong”;

bb. Removing the entry for “Global Sourcing Electronics (HK) Ltd.” under “Hong Kong”;

cc. Removing the entry for “GS Technology Ltd., a.k.a. GS Technology Group Ltd.” under “Hong Kong”;

dd. Removing the entry for “Hi-Shine Technology (HK) Limited” under “Hong Kong”;

ee. Removing the entry for “Hong Kong U.Star Electronics Technology Co., Ltd.” under “Hong Kong”;

ff. Removing the entry for “Hua Fu Technology Co. Ltd.” under “Hong Kong”;

gg. Removing the entry for “Microlink Communication Ltd.” under “Hong Kong”;

hh. Removing the entry for “Milectronic Communication Ltd.” under “Hong Kong”;

ii. Removing the entry for “Newplus Equipment Ltd.” under “Hong Kong”;

jj. Removing the entry for “People Tele-com Group” under “Hong Kong”;

kk. Removing the entry for “Runtop Circuits Technology Co.” under “Hong Kong”;

ll. Removing the entry for “Team Kingdom Limited” under “Hong Kong”;

mm. Removing the entry for “Tianao Electronics Limited” under “Hong Kong”;

nn. Removing the entry for “Top-Rank Int Trade (HK)” under “Hong Kong”;

oo. Removing the entry for “Vessel Technology Limited” under “Hong Kong”;

pp. Removing the entry for “Win Electronics Limited” under “Hong Kong”;

qq. Removing the entry for “Win-Semi International Ltd” under “Hong Kong”;

rr. Removing the entry for “Indonesia” and “PetroChina International Jabung Ltd.” under “Indonesia”;

ss. Adding one entry, in alphabetical order, for “Mexico”;

tt. Adding three entries, in alphabetical order, for “Pakistan”;

uu. Adding two entries, in alphabetical order, for “Turkey”;

vv. Adding six entries, in alphabetical order, for “United Arab Emirates”; and

ww. Removing the entry for “Chepstow FZE” under “United Arab Emirates”.

The additions and revisions read as follows:

Supplement No. 6 to Part 744—Unverified List

* * * * *

Country | Listed person and address | Federal Register citation and date of publication
ARMENIA | Atlas Sanatgaran, Komitas 26/114, Yerevan, Armenia | 85 FR [INSERT FEDERAL REGISTER PAGE NUMBER], 10/9/2020.
| Iranian & Armenian, Komitas 26/114, Yerevan, Armenia | 85 FR [INSERT FEDERAL REGISTER PAGE NUMBER], 10/9/2020.
| Piricas Trading Company, No. 20 Heratsi 2A, Yerevan, Armenia | 85 FR [INSERT FEDERAL REGISTER PAGE NUMBER], 10/9/2020.
* * * * * * *
CHINA | * * * * *
| Sun Yat-Sen University, No. 135 Xingang, Xi Road, Guangzhou, China | 85 FR [INSERT FEDERAL REGISTER PAGE NUMBER], 10/9/2020.
* * * * * * *
FINLAND | Aelcomp OY, Kurkisuontie 2B, Helsinki 00904 Finland; and Merisotilaankatu 2, Helsinki 00160 Finland | 85 FR [INSERT FEDERAL REGISTER PAGE NUMBER], 10/9/2020.
| Intertranslog OY, Tupatallinkatu 3, Lappeenranta 53300 Finland; and Harapaisentie 55, Lappeenranta 53301 Finland | 85 FR [INSERT FEDERAL REGISTER PAGE NUMBER], 10/9/2020.
* * * * * * *
GERMANY | DMA Logistics GmbH, Max Planck-Strasse 1, Unna, Germany | 85 FR [INSERT FEDERAL REGISTER PAGE NUMBER], 10/9/2020.
| Halm Elektronik GmbH, Burgstrasse 106, Frankfurt am Main, Germany | 85 FR [INSERT FEDERAL REGISTER PAGE NUMBER], 10/9/2020.
| Universal Logistics Systems GmbH Cargo City Sud, Building 577, Frankfurt Airport, Frankfurt am Main, Germany | 85 FR [INSERT FEDERAL REGISTER PAGE NUMBER], 10/9/2020.
HONG KONG | * * * * *
| AW Industrial Ltd., Room A, 3/F Hung Fook Industrial Building, No 60 Hung To Road, Kwun Tong, Kowloon, Hong Kong; and D1 6/F Kras Asia Industrial Building, No 79 Hung To Road, Kwung Tong, Hong Kong | 85 FR [INSERT FEDERAL REGISTER PAGE NUMBER], 10/9/2020.
* * * * * * *
| Emax Technology Co. Ltd. HK, Room 19C, Lockhart Centre, 301-307 Lockhart Road, Wan Chai, Hong Kong; and Rm 2017, Lippo Centre Tower 2, 89 Queensway, Admiralty, Hong Kong | 85 FR [INSERT FEDERAL REGISTER PAGE NUMBER], 10/9/2020.
| Fortune International Trading, Room 1701(017) 17/F Henan Bldg, No. 90 Jaffee Rd, Wanchai, Hong Kong; and Room 1907, 19/F, Lee Garden One, 33 Hysan Avenue, Causeway Bay, Hong Kong | 85 FR [INSERT FEDERAL REGISTER PAGE NUMBER], 10/9/2020.
* * * * * * *
| Kenwoo International Trade Company, 1907, 19/F, Lee Garden One, 33 Hysan Avenue, Causeway Bay, Hong Kong; and Room 517, New City Centre, 2 Lei Yue Mun Road, Kwun Tong, Kowloon, Hong Kong; and Flat H, 6/F, Block 2, Golden Dragon Industrial Centre, Tai Lin Pai Road, Kwai Chung, Hong Kong | 85 FR [INSERT FEDERAL REGISTER PAGE NUMBER], 10/9/2020.
* * * * * * *
| Xiang Cheng Gao Trading (HK) Ltd., 1215 Lot, DD 125, Ha Tsuen Road, Ha Tsuen, Ping Shan, Yuen Long, New Territories, Hong Kong | 85 FR [INSERT FEDERAL REGISTER PAGE NUMBER], 10/9/2020.
* * * * * * *
MEXICO | Integrated Production and Test Engineering, a.k.a. IPTE, Calle Alambiques 975—9, Parque Industrial el Álamo, Guadalajara, Jalisco 44490, Mexico | 85 FR [INSERT FEDERAL REGISTER PAGE NUMBER], 10/9/2020.
PAKISTAN | * * * * *
| ENGRO Polymer & Chemicals Limited, The Harbour Front, HC-3, Dolmen City, 16th Floor, Block-4, Scheme-5, Clifton, Karachi, Pakistan | 85 FR [INSERT FEDERAL REGISTER PAGE NUMBER], 10/9/2020.
| Naina Exporters and Importers, H-96, Intelligence School Colony, M.T. Khan Road, Karachi, Pakistan | 85 FR [INSERT FEDERAL REGISTER PAGE NUMBER], 10/9/2020.
| Seven Star Company, H-96 Intelligence School Colony, M.T. Khan Road, Karachi, Pakistan | 85 FR [INSERT FEDERAL REGISTER PAGE NUMBER], 10/9/2020.
* * * * * * *
TURKEY | Fast Aviation, Yesilkoy MAH Ataturk, Cad. EGS Bloklari, B:2 No:2 D:1, Istanbul, Turkey | 85 FR [INSERT FEDERAL REGISTER PAGE NUMBER], 10/9/2020.
| Metafor Lojistik, Ma. Istiklal Cad. Beyoglu, Istanbul, Turkey | 85 FR [INSERT FEDERAL REGISTER PAGE NUMBER], 10/9/2020.
UNITED ARAB EMIRATES | * * * * *
| Aero King FZC, Flat #501, Al Masjid Bldg No 416, Al Nahda, Sharjah, UAE; and Al Khabaisa Area, Salahuddin Street, Deira, UAE; and B04-518 Business Center 03, RAKEZ Business Zone-FZ, RAK, UAE; and Room #518, Business Center 3, Business Park Nakheel, Ras Al Khaimah, UAE | 85 FR [INSERT FEDERAL REGISTER PAGE NUMBER], 10/9/2020.
* * * * * * *
| Elemental Lab, PO Box 172237, Dubai UAE; and Gargash Ctr near Babkha Sub, Gargashe 7 Flr Ofc Num 703, Dubai, UAE; and 701 Benyas Building, Benyas Square, Dubai, UAE; and 701, Baniyas Building, Baniyas Square, Dubai, UAE | 85 FR [INSERT FEDERAL REGISTER PAGE NUMBER], 10/9/2020.
* * * * * * *
| Lavender General Trading, Plot# MO0706, Street N200, JAFZA North, Dubai, UAE; and 732C Street, Plot# MO0543A, Gate 5, JAFZA, Dubai, UAE; and Warehouse 9, Industrial Area 11, Sharjah, UAE; and Office No. 123, 1st Floor, Dubai Real Estate Bldg., Dubai Maritime City, Dubai, UAE | 85 FR [INSERT FEDERAL REGISTER PAGE NUMBER], 10/9/2020.
* * * * * * *
| Piricas Trading Company, No. 507 Al Mina Street, P.O. Box 181950, Dubai, UAE | 85 FR [INSERT FEDERAL REGISTER PAGE NUMBER], 10/9/2020.
* * * * * * *
| Rising Sun FZE, BC 1300147, Ajman Freezone, Ajman, UAE; and G08, Block G1, Dubai Airport Free Zone Area (DAFZA), Dubai, UAE | 85 FR [INSERT FEDERAL REGISTER PAGE NUMBER], 10/9/2020.
* * * * * * *
| Sea Prince Logistics LLC, Plot# MO0706, Street N200, JAFZA North, Dubai, UAE; and 732C Street, Plot# MO0543A, Gate 5, JAFZA, Dubai, UAE; and Warehouse 9, Industrial Area 11, Sharjah, UAE; and Office No. 123, 1st Floor, Dubai Real Estate Bldg., Dubai Maritime City, Dubai, UAE | 85 FR [INSERT FEDERAL REGISTER PAGE NUMBER], 10/9/2020.
* * * * * * *

Matthew S. Borman,
Deputy Assistant Secretary for Export Administration.

[FR Doc. 2020-20012 Filed 10-8-20; 8:45 am]

BILLING CODE 3510-33-P